DEPARTMENT OF HOMELAND SECURITY

Federal Emergency Management Agency

[Docket ID FEMA-2025-0002; Internal Agency Docket No. FEMA-B-2558]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The current effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Jeffrey Jackson,
Deputy Assistant Administrator, Federal Insurance Directorate, Resilience, Federal Emergency Management Agency, Department of Homeland Security.

State and county | Location and case No. | Chief executive officer of community | Community map repository | Online location of letter of map revision | Date of modification | Community No.
Alabama:
Limestone | City of Huntsville (25-04-2051P). | The Honorable Thomas Battle, Jr., Mayor, City of Huntsville, P.O. Box 308, Huntsville, AL 35804. | City Hall, P.O. Box 308, Huntsville, AL 35804. | https://msc.fema.gov/portal/advanceSearch. | Oct. 30, 2025 | 010153
Limestone | Unincorporated areas of Limestone County (25-04-2051P). | The Honorable Collin Daly, Chair, Limestone County Commission, 310 West Washington Street, Athens, AL 35611. | Washington Street, Courthouse Annex, 310 West Washington Street, Athens, AL 35611. | https://msc.fema.gov/portal/advanceSearch. | Oct. 30, 2025 | 010307
Mobile | Unincorporated areas of Mobile County (25-04-4360X). | The Honorable Merceria Ludgood, Chair, Mobile County Commission, 205 Government Street, Mobile, AL 36644. | Mobile County Health Department, 1110 Schillinger Road North, Suite 100, Mobile, AL 36644. | https://msc.fema.gov/portal/advanceSearch. | Oct. 2, 2025 | 015008
Florida:
Charlotte | Unincorporated areas of Charlotte County (24-04-2314P). | The Honorable Joe Tiseo, Chair, Charlotte County Board of Commissioners, 18500 Murdock Circle, Suite 536, Port Charlotte, FL 33948. | Charlotte County Building Department, 18400 Murdock Circle, Port Charlotte, FL 33948. | https://msc.fema.gov/portal/advanceSearch. | Nov. 4, 2025 | 120061
Duval | City of Jacksonville (24-04-2896P). | The Honorable Donna Deegan, Mayor, City of Jacksonville, 117 West Duval Street, Suite 400, Jacksonville, FL 32202. | City Hall, 117 West Duval Street, Jacksonville, FL 32202. | https://msc.fema.gov/portal/advanceSearch. | Dec. 5, 2025 | 120077
Duval | City of Jacksonville (24-04-4935P). | The Honorable Donna Deegan, Mayor, City of Jacksonville, 117 West Duval Street, Suite 400, Jacksonville, FL 32202. | City Hall, 117 West Duval Street, Jacksonville, FL 32202. | https://msc.fema.gov/portal/advanceSearch. | Dec. 3, 2025 | 12 120077
Duval | City of Jacksonville (24-04-7028P). | The Honorable Donna Deegan, Mayor, City of Jacksonville, 117 West Duval Street, Suite 400, Jacksonville, FL 32202. | City Hall, 117 West Duval Street, Jacksonville, FL 32202. | https://msc.fema.gov/portal/advanceSearch. | Dec. 12, 2025 | 120077
Miami-Dade | Unincorporated areas of Miami-Dade County (25-04-2591P). | The Honorable Daniella Levine Cava, Mayor, Miami-Dade County, 111 Northwest 1st Street, 29th Floor Miami, FL 33128. | Miami-Dade Regulatory and Economic Resources, 701 Northwest 1st Court, 5th Floor, Miami, FL 33136. | https://msc.fema.gov/portal/advanceSearch. | Dec. 4, 2025 | 120635
Nassau | Unincorporated areas of Nassau County (24-04-6682P). | Taco E. Pope, Manager, Nassau County, 96135 Nassau Place, Suite 1, Yulee, FL 32097. | Nassau County Public Services Building, 96161 Nassau Place, Yulee, FL 32097. | https://msc.fema.gov/portal/advanceSearch. | Nov. 28, 2025 | 120170
Palm Beach | Unincorporated areas of Palm Beach County (24-04-5577P). | The Honorable Todd C. Bonlarron, Interim Administrator, Palm Beach County, 301 North Olive Avenue, Suite 1101, West Palm Beach, FL 33401. | Palm Beach County Vista Center, Building Division 2300, North Jog Road, West Palm Beach, FL 33411. | https://msc.fema.gov/portal/advanceSearch. | Nov. 24, 2025 | 120192
Pasco | Unincorporated areas of Pasco County (24-04-3074P). | The Honorable Mike Carballa, Pasco County Administrator, 8731 Citizens Drive, Suite 340, New Port Richey, FL 34654. | Pasco County Government Center, 8731 Citizens Drive, New Port Richey, FL 34654. | https://msc.fema.gov/portal/advanceSearch. | Dec. 11, 2025 | 120230
St. Johns | Unincorporated areas of St. Johns County (25-04-3671P). | The Honorable Joy Andrews, St. Johns County Administrator, 500 San Sebastian View St., Augustine, FL 32084. | St. Johns County Administration Building, 500 San Sebastian View St., Augustine, FL 32084. | https://msc.fema.gov/portal/advanceSearch. | Dec. 3, 2025 | 125147
Sumter | City of Wildwood (25-04-2922P). | The Honorable Ed Wolf, Mayor, City of Wildwood, 100 North Main Street, Wildwood, FL 34785. | City Hall, 100 North Main Street, Wildwood, FL 34785. | https://msc.fema.gov/portal/advanceSearch. | Dec. 12, 2025 | 120299
Sumter | Unincorporated areas of Sumter County (25-04-2922P). | The Honorable Bradley Arnold, Sumter County Administrator, 7375 Powell Road, Wildwood, FL 34785. | Sumter County Service Center, 7375 Powell Road, Wildwood, FL 34785. | https://msc.fema.gov/portal/advanceSearch. | Dec. 12, 2025 | 120296
Indiana:
Boone | Town of Whitestown (25-05-0293P). | The Honorable Dan Patterson, President, Town of Whitestown Council, 6210 Veterans Drive, Whitestown, IN 46075. | Town Hall, 3 South Main Street, Whitestown, IN 46075. | https://msc.fema.gov/portal/advanceSearch. | Dec. 5, 2025 | 180015
Johnson | City of Greenwood (24-05-0658P). | The Honorable Mark Meyers, Mayor, City of Greenwood, 300 South Madison Avenue, Greenwood, IN 46142. | City Hall, 300 South Madison Avenue, Greenwood, IN 46142. | https://msc.fema.gov/portal/advanceSearch. | Dec. 15, 2025 | 180115
Marion | City of Indianapolis (24-05-0915P). | The Honorable Joe Hogsett, Mayor, City of Indianapolis, 200 East Washington Street, Suite 2501, Indianapolis, IN 46204. | City-County Building, 200 East Washington Street, Suite 2501, Indianapolis, IN 46204. | https://msc.fema.gov/portal/advanceSearch. | Nov. 24, 2025 | 180159
Massachusetts:
Essex | Town of Andover (25-01-0731P). | Andrew P. Flanagan Manager, Town of Andover, 36 Bartlet Street, Andover, MA 01810. | Town Hall, 36 Bartlet Street, Andover, MA 01810. | https://msc.fema.gov/portal/advanceSearch. | Nov. 21, 2025 | 250076
Middlesex | City of Woburn (25-01-0728P). | The Honorable Michael Concannon, Mayor, City of Woburn, 10 Common Street, Woburn, MA 01801. | City Hall, 6 Common Street, Woburn, MA 01801. | https://msc.fema.gov/portal/advanceSearch. | Nov. 26, 2025 | 250229
Minnesota: Anoka | City of Andover (24-05-0578P). | The Honorable Jamie Barthel, Mayor, City of Andover, 1685 Crosstown Boulevard, Northwest Andover, MN 55304. | City Hall, 1685 Crosstown Boulevard, Northwest Andover, MN 55304. | https://msc.fema.gov/portal/advanceSearch. | Dec. 1, 2025 | 270689
North Carolina:
Brunswick | Town of Calabash (23-04-1192P). | The Honorable Donna Long, Mayor, Town of Calabash, 882 Persimmon Road, Calabash, NC 28467. | Planning and Zoning Department, 882 Persimmon Road, Calabash, NC 28467. | https://msc.fema.gov/portal/advanceSearch. | Sep. 19, 2025 | 370395
Brunswick | Town of Carolina Shores (23-04-1192P). | The Honorable Daniel Conte, Mayor, Town of Carolina Shores, 200 Persimmon Road, Carolina Shores, NC 28467. | Planning and Zoning Division, 200 Persimmon Road, Carolina Shores, NC 28467. | https://msc.fema.gov/portal/advanceSearch. | Sep. 19, 2025 | 370517
Brunswick | Unincorporated areas of Brunswick County (23-04-1192P). | The Honorable Mike Forte, Chair, Brunswick County Board of Commissioners, P.O. Box 249, Bolivia, NC 28422. | Brunswick County Planning Department, 75 Courthouse Drive, Building 1, Bolivia, NC 28422. | https://msc.fema.gov/portal/advanceSearch. | Sep. 19, 2025 | 370295
Mecklenburg | Town of Pineville (24-04-6398P). | The Honorable David Phillips, Mayor, Town of Pineville, P.O. Box 249, Pineville, NC 28134. | Mecklenburg County Stormwater Services, 2145 Suttle Avenue, Charlotte, NC 28208. | https://msc.fema.gov/portal/advanceSearch. | Dec. 8, 2025 | 370160
Wake | City of Raleigh (24-04-7419P). | The Honorable Janet Cowell, Mayor, City of Raleigh, P.O. Box 590, Raleigh, NC 27602. | Planning and Development, 219 Fayetteville Street, Raleigh, NC 27601. | https://msc.fema.gov/portal/advanceSearch. | Dec. 15, 2025 | 370243
Oklahoma: Oklahoma | City of Oklahoma City (24-06-1117P). | The Honorable David Holt, Mayor, City of Oklahoma City, 200 North Walker Avenue, 3rd Floor, Oklahoma City, OK 73102. | Publick Works Department, 420 West Main Street, Suite 700, Oklahoma City, OK 73102. | https://msc.fema.gov/portal/advanceSearch. | Dec. 3, 2025 | 405378
South Carolina:
Richland | Unincorporated areas of Richland County (24-04-0706P). | The Honorable Leonard Brown, Richland County Administrator, P.O. Box 192, Columbia, SC 29204. | Richland County Administration Building, 2020 Hampton Street, 1st Floor, Columbia, SC 29204. | https://msc.fema.gov/portal/advanceSearch. | Dec. 15, 2025 | 450170
Richland | Unincorporated areas of Richland County (24-04-7825P). | The Honorable Leonard Brown, Richland County Administrator, P.O. Box 192, Columbia, SC 29204. | Richland County Administration Building, 2020 Hampton Street, 1st Floor, Columbia, SC 29204. | https://msc.fema.gov/portal/advanceSearch. | Nov. 17, 2025 | 450170
Texas:
Collin | Town of Prosper (25-06-1026P). | The Honorable David F. Bristol, Mayor, Town of Prosper, 250 West 1st Street, Prosper, TX 75078. | Town Hall, 250 West 1st Street, Prosper, TX 75078. | https://msc.fema.gov/portal/advanceSearch. | Dec. 1, 2025 | 480141
Denton | City of Carrollton (24-06-1309P). | The Honorable Steve Babick, Mayor, City of Carrollton, 1945 East Jackson Road, Carrollton, TX 75006. | City Hall, 1945 East Jackson Road, Carrollton, TX 75006. | https://msc.fema.gov/portal/advanceSearch. | Dec. 1, 2025 | 480167
Denton | City of Lewisville (24-06-1309P). | The Honorable T.J. Gilmore, Mayor, City of Lewisville, P.O. Box 299002, Lewisville, TX 75029. | City Hall, 151 West Church Street, Lewisville, TX 75057. | https://msc.fema.gov/portal/advanceSearch. | Dec. 1, 2025 | 480195
Harris | City of Houston (24-06-1406P). | The Honorable John Whitmire, Mayor, City of Houston, P.O. Box 1562, Houston, TX 77251. | Floodplain Management Office, 1002 Washington Avenue, Houston, TX 77002. | https://msc.fema.gov/portal/advanceSearch. | Dec. 1, 2025 | 480296
Harris | Unincorporated areas of Harris County (24-04-1406P). | The Honorable Lina Hidalgo, Harris County Judge, 1001 Preston Street, Suite 911, Houston, TX 77002. | Harris County Permit Office, 1111 Fannin Street, 8th Floor Houston, TX 77002. | https://msc.fema.gov/portal/advanceSearch. | Dec. 1, 2025 | 480287
Tarrant | City of Arlington (24-06-2405P). | The Honorable Jim Ross, Mayor, City of Arlington, P.O. Box 90231, Arlington, TX 76010. | City Hall, 101 West Abram Street, Arlington, TX 76010. | https://msc.fema.gov/portal/advanceSearch. | Nov. 17, 2025 | 485454
Tarrant | City of Fort Worth (25-06-0122P). | The Honorable Mattie Parker, Mayor, City of Fort Worth, 100 Fort Worth Trail, Fort Worth, TX 76102. | Department of Transportation and Public Works, Stormwater Management Division, Fort Worth, TX 76102. | https://msc.fema.gov/portal/advanceSearch. | Nov. 17, 2025 | 480596
Tarrant | City of Watauga (25-06-0706P). | The Honorable Arthur L. Miner, Mayor, City of Watauga, 7105 Whitley Road, Watauga, TX 76148. | Public Works Department, 7800 Virgil Anthony Boulevard, Watauga, TX 76148. | https://msc.fema.gov/portal/advanceSearch. | Dec. 11, 2025 | 480613
Virginia:
Chesterfield | Unincorporated areas of Chesterfield County (25-03-0079P). | The Honorable Joseph P. Casey, Chesterfield County Administrator, 9901 Lori Road, Chesterfield, VA 23832. | Chesterfield County Planning Department, 9800 Government Center Parkway, Chesterfield, VA 23832. | https://msc.fema.gov/portal/advanceSearch. | Dec. 3, 2025 | 510035
Fairfax | Unincorporated areas of Fairfax County (24-03-0807P). | The Honorable Jeffrey McKay, Chair At-Large, Fairfax County Board of Supervisors, 12000 Government Center Parkway, Suite 530, Fairfax, VA 22035. | Fairfax County Government Center, 12000 Government Center Parkway, Fairfax, VA 22035. | https://msc.fema.gov/portal/advanceSearch. | Dec. 8, 2025 | 515525
Loudoun | Unincorporated areas of Loudoun County (24-03-0807P). | The Honorable Tim Hemstreet, Loudoun, County Administrator, 1 Harrison Street Southeast, 5th Floor, Leesburg, VA 20175. | Loudoun County Government Center, 1 Harrison Street Southeast, 3rd Floor, MSC #60, Leesburg, VA 20175. | https://msc.fema.gov/portal/advanceSearch. | Dec. 8, 2025 | 510090

[FR Doc. 2025-20374 Filed 11-19-25; 8:45 am]

BILLING CODE 9110-12-P